COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add a product to the Procurement List that will be furnished by nonprofit agencies employing persons who are blind or have other severe disabilities, and deletes services previously furnished by such agencies.

DATES: Comments must be received on or before: July 28, 2019.

ADDRESSES: Committee for Purchase From People Who Are Blind or Severely Disabled, 1401 S. Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the product listed below from nonprofit agencies employing persons who are blind or have other severe disabilities.

The following product is proposed for addition to the Procurement List for production by the nonprofit agencies listed:

Product

NSNs—Product Name:

7920-00-NIB-0728—Dust Mop, Microfiber with Handle, Blue, 13″ x 10″

Mandatory Source of Supply: Mississippi Industries for the Blind, Jackson, MS

Mandatory For: Total Government Requirement

Contracting Activity: FEDERAL ACQUISITION SERVICE, GSA/FSS GREATER SOUTHWEST ACQUISITI

Deletions

The following services are proposed for deletion from the Procurement List:

Services

Service Type: Janitorial/Custodial & Laundry Service

Mandatory for: National Defense University: Fort McNair, Health Fitness, Washington, DC

Mandatory Source of Supply: ServiceSource, Inc., Oakton, VA

Contracting Activity: DEPT OF THE ARMY, W37W USA ELE NATL DEF UNIV

Service Type: Janitorial/Custodial

Mandatory for: Fort Shafter: Buildings 344 and 1507, Fort Shafter, HI

Mandatory for: Schofield Barracks: Buildings 690, 692 and 1087, Fort Shafter, HI

Mandatory Source of Supply: Network Enterprises, Inc., Honolulu, HI

Contracting Activity: DEPT OF THE ARMY, W40M RHCO-ATLANTIC USAHCA

Service Type: Janitorial Services

Mandatory for: Muskogee Armed Force Reserve Center, Muskogee, OK

Mandatory Source of Supply: Golden Rule Industries of Muskogee, Inc., Muskogee, OK

Contracting Activity: DEPT OF THE ARMY, W7NV USPFO ACTIVITY OK ARNG

Service Type: Custodial service

Mandatory for: USMA, Warrior Transition Unit Bldg #624, West Point, NY

Mandatory Source of Supply: Access: Supports for Living Inc., Middletown, NY

Contracting Activity: DEPT OF THE ARMY, W6QM MICC-WEST POINT

Service Type: Janitorial/Custodial

Mandatory for: Lewisville Lake Park, Lewisville, TX

Mandatory Source of Supply: Goodwill Industries of Dallas, Inc.—Deleted, Dallas, TX

Contracting Activity: DEPT OF THE ARMY, W40M RHCO-ATLANTIC USAHCA

Service Type: Warehousing

Mandatory for: U.S. Army Logistics Management College (ALMC), Fort Lee, VA

Mandatory Source of Supply: SOAR 365, Richmond, VA

Contracting Activity: DEPT OF THE ARMY, W40M RHCO-ATLANTIC USAHCA

Service Type: Grounds Maintenance

Mandatory for: Veterans Affairs Medical Center: 1601 Perdido Street, New Orleans, LA

Mandatory Source of Supply: Goodworks, Inc., New Orleans, LA

Contracting Activity: VETERANS AFFAIRS, DEPARTMENT OF, NAC

Service Type: Food Service

Mandatory for: Fort Lee, Fort Lee, VA

Mandatory Source of Supply: VersAbility Resources, Inc., Hampton, VA

Contracting Activity: DEPT OF THE ARMY, W40M RHCO-ATLANTIC USAHCA

Service Type: Document Destruction Services

Mandatory for: Dallas Finance Center—Dept of Homeland Security (ICE), 1460 Prudential Drive, Dallas, TX

Mandatory Source of Supply: Expanco, Inc., Fort Worth, TX

Contracting Activity: U.S. IMMIGRATION AND CUSTOMS ENFORCEMENT, MISSION SUPPORT DALLAS

Service Type: Laundry Service

Mandatory for: Federal Bureau of Prisons, FMC Carswell, J Street, Building 3000, Fort Worth, TX

Mandatory Source of Supply: Goodwill Industrial Services of Fort Worth, Inc., Fort Worth, TX

Contracting Activity: FEDERAL PRISON SYSTEM, CARSWELL, FMC

Service Type: Janitorial/Custodial

Mandatory for: U.S. Fish & Wildlife Service: Santa Ana National Wildlife Refuge, Alamo, TX

Mandatory Source of Supply: Training, Rehabilitation, & Development Institute, Inc., San Antonio, TX

Contracting Activity: OFFICE OF POLICY, MANAGEMENT, AND BUDGET, NBC ACQUISITION SERVICES DIVISION

Service Type: Housekeeping Services

Mandatory for: Veterans Affairs Medical Center, Clarksburg, WV

Mandatory Source of Supply: Job Squad, Inc., Bridgeport, WV

Contracting Activity: VETERANS AFFAIRS, DEPARTMENT OF, NAC

Service Type: Janitorial/Custodial

Mandatory for: Minnesota Valley National Wildlife Refuge: Visitors Center, Bloomington, MN

Mandatory Source of Supply: AccessAbility, Inc., Minneapolis, MN

Contracting Activity: OFFICE OF POLICY, MANAGEMENT, AND BUDGET, NBC ACQUISITION SERVICES DIVISION

Patricia Briscoe,
Deputy Director, Business Operations (Pricing and Information Management).

[FR Doc. 2019-13819 Filed 6-27-19; 8:45 am]

BILLING CODE 6353-01-P